DEPARTMENT OF LABOR

Employment and Training Administration

[TA-W-74,919]

RG Steel Sparrows Point LLC, Formerly Known as Severstal Sparrows Point LLC, a Subsidiary of RG Steel LLC, Including On-Site Leased Workers From Echelon Service Company, Sun Associated Industries, Inc., MPI Consultants Llc, Alliance Engineering, Inc., Washington Group International, Javan & Walter, Inc., Kinetic Technical Resources Co., Innovative Practical Approach, Inc., CPSI, Accounts International, Adecco, Aerotek, Booth Consulting, Crown Security, Eastern Automation, Eds(Hp), Teksystems, URS Corporation, B More Industrial Services LLC, Recycling & Treatment Technologies of Baltimore, Llc, and Lafarge North America, Sparrows Point, Maryland; Amended Certification Regarding Eligibility to Apply for Worker Adjustment Assistance

In accordance with Section 223 of the Trade Act of 1974, as amended (“Act”), 19 U.S.C. 2273, the Department of Labor (Department) issued a Certification of Eligibility to Apply for Worker Adjustment Assistance on February 9, 2011, applicable to workers and former workers of RG Steel Sparrows Point LLC, formerly known as Severstal Sparrows Point LLC, a subsidiary of RG Steel LLC, Sparrows Point, Maryland.

The Department has issued amended certifications applicable to the subject firm on June 22, 2012, July 18, 2012, July 30, 2012, January 16, 2013, and March 2013.

Workers at the subject firm were engaged in employment related to production of rolled steel. The worker group includes on-site leased workers from various firms.

The Department has received information that workers from LaFarge North America were employed on-site at the Sparrows Point, Maryland location of RG Steel Sparrows Point LLC and has determined that these workers were sufficiently under the control of the subject firm to be considered leased workers. Based on these findings, the Department is amending this certification to include workers leased from LaFarge North America who worked on-site at the Sparrows Point, Maryland facility.

The amended notice applicable to TA-W-74,919 is hereby issued as follows:

“All workers of RG Steel Sparrows Point LLC, formerly known as Severstal Sparrows Point LLC, a subsidiary of RG Steel LLC, including on-site leased workers from Echelon Service Company, Sun Associated Industries, Inc., MPI Consultants LLC, Alliance Engineering, Inc., Washington Group International, Javan & Walter, Inc., Kinetic Technical Resources Co., Innovative Practical Approach, Inc., CPSI, Accounts International, Adecco, Aerotek, Booth Consulting, Crown Security, Eastern Automation, EDS(HP), TekSystems, URS Corporation, B More Industrial Services LLC, Recycling & Treatment Technologies of Baltimore, LLC, and LaFarge North America, Sparrows Point, Maryland, who became totally or partially separated from who became totally or partially separated from employment on or after November 22, 2009 through February 9, 2013, and all workers in the group threatened with total or partial separation from employment on February 9, 2011 through February 9, 2013, are eligible to apply for adjustment assistance under Chapter 2 of Title II of the Trade Act of 1974, as amended.”

Signed in Washington, DC, this 21st day of June, 2013.
Michael W. Jaffe,
Certifying Officer, Office of Trade Adjustment Assistance.

[FR Doc. 2013-16161 Filed 7-3-13; 8:45 am]

BILLING CODE P